DEPARTMENT OF AGRICULTURE

Forest Service

West-Side Reservoir Post-Fire Project, Flathead National Forest, Flathead County, Montana

AGENCY: Forest Service, USDA.

ACTION: Notice; intent to prepare environmental impact statement.

SUMMARY: The Forest Service will prepare an environmental impact statement (EIS) for a proposal to salvage dead and dying trees within the perimeters of the Beta, Doris, Doe, Wounded Buck, Blackfoot, and Ball fires (collectively referred to as the West-Side Reservoir Fires), which burned a total of approximately 30,000 acres on the Flathead National Forest from July to September of 2003. All fires burned on the Hungry Horse Ranger District except the Ball fire that burned on the Spotted Bear Ranger District; all of the burned acres occur on and are surrounded by National Forest System land. The Hungry Horse Reservoir is adjacent to the project area on the east. The Hungry Horse Dam, administered by the Bureau of Reclamation, is adjacent to the project area on the north. The city of Hungry Horse, Montana is located about four air miles to the northwest of the most northern portion of the project area.

DATES: Substantive comments concerning the scope of the analysis should be received in writing on or before March 5, 2004. A public scoping meeting will be held in the town of Kalispell, Montana in February 2004. The draft environmental impact statement (DEIS) is expected to be filed with the Environmental Protection Agency and made available for public review in June of 2004. No date has yet been determined for filing the final environmental impact statement (FEIS).

ADDRESSES: Send written comments to either Jimmy DeHerrera, Hungry Horse District Ranger, or Deb Mucklow, Spotted Bear District Ranger. The mailing address for both Rangers is P.O. Box 190340, Hungry Horse, Montana 59919, or call them at (406) 387-3800. Comments may be e-mailed to comments-northern-flathead-tally-lake@fs.fed.us. Substantive comments are those within the scope of, are specific to, and have a direct relationship to the proposed action, and include supporting reasons that the Responsible Official should consider in reaching a decision. Comments received in response to this request will be available for public inspection and will be released in their entirety if requested pursuant to the Freedom of Information Act.

FOR FURTHER INFORMATION CONTACT: Bryan Donner, Planning Team Leader, (406) 863-5408.

SUPPLEMENTARY INFORMATION: The purpose and need for the action is to recover merchantable wood fiber affected by the West-Side Reservoir Fires in a timely manner to support local communities and contribute to the long-term yield of forest products.

Fire-killed trees do not typically maintain their merchantability as wood products for more than one to three years, depending on their species and size. Sapwood staining, checking, woodborer damage, and decay will deleteriously reduce timber volume after that time. Smaller-diameter trees typically will not be merchantable within a year. Larger-diameter trees can retain their merchantability as wood products for a longer period, but merchantability will deteriorate as time goes on. While considering ecological needs, salvage harvesting an appropriate amount of fire-affected trees in a timely manner to ensure their economic utilization and starting the reforestation process in the burned area will help facilitate meeting desired conditions within the area of the West-Side Reservoir Fires.

The proposed action includes salvage of trees from a range of approximately 6100 to 6300 acres, which represents about 20 percent of the area that burned in the 2003 West-Side Reservoir Fires. No salvage or road building is proposed within inventoried roadless lands, nor is it proposed within the Jewel Basin Hiking Area. Planting conifer seedlings and ensuring that Best Management Practices would be maintained on roads used for the salvage would also be included in this project.

Additionally, road and trail access would be changed in six grizzly bear subunits to respond to the Flathead Forest Plan's Amendment 19 ten-year goals and objectives relative to grizzly bear security. Approximately 20 miles of open yearlong/seasonally open road would be restricted to wheeled motorized use yearlong and approximately 43 miles of trail would also be restricted to wheeled motorized use only within the Doris Lost Johnny, Wounded Buck Clayton, Jewel Basin Graves, Wheeler Quintonkon, Kah Soldier, and Ball Branch grizzly bear subunits. Also, approximately 49 miles of road would be decommissioned in these same units. All of these 49 miles of road decommissioning are currently restricted to wheeled motorized use yearlong except for 0.8 miles that is currently open yearlong. The Flathead Forest Plan has open motorized access, total motorized access, and security core standards that would be amended with a project specific amendment in this project.

More detailed scoping information and maps can be accessed on the Flathead National Forest Internet site at http://www.fs.fed.us/rl/flathead/.

This EIS will tier to the Flathead National Forest Land and Resource Management Plan and EIS of January 1986, and its subsequent amendments, which provide overall guidance for land management activities on the Flathead National Forest.

Preliminary issues and concerns include effects of treatments on the following: soil, streams, riparian areas, old growth habitat, recreational motorized access, and threatened/endangered species such as bull trout and grizzly bears.

The comment period on the draft environmental impact statement will be 45 days from the date the Environmental Protection Agency publishes the notice of availability in the Federal Register.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage, but that are not raised until after completion of the final environmental impact statement may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement (Reviewers may wish to refer to the Council on Environmental Quality Regulations for implementing the procedural provisions of the National Environmental Policy Act at 40 CFR 1503.3 in addressing these points).

The Responsible Official is the Forest Supervisor of the Flathead National Forest, 1935 3rd Avenue East, Kalispell, Montana 59901. The Forest Supervisor will make a decision regarding this proposal considering the comments and responses, environmental consequences discussed in the final EIS, and applicable laws, regulations, and policies. The decision and rationale for the decision will be documented in a Record of Decision. That decision will be subject to appeal under applicable Forest Service regulations.

Dated: January 29, 2004.
Cathy Barbouletos,
Forest Supervisor—Flathead National Forest.

[FR Doc. 04-2100 Filed 2-2-04; 8:45 am]

BILLING CODE 3410-11-M